NATIONAL CREDIT UNION ADMINISTRATION

Sunshine Act: Notice of Agency Meeting

TIME AND DATE: 10:00 a.m., Thursday, April 16, 2020.

PLACE: Due to the COVID-19 Pandemic, the meeting will be open to the public via live webcast only. Visit the agency's homepage (www.ncua.gov.) and access the provided webcast link.

STATUS: This meeting will be open to the public.

MATTERS TO BE CONSIDERED: 1. NCUA Rules and Regulations, Central Liquidity Facility.

2. NCUA Rules and Regulations, Regulatory Relief in Response to COVID-19 Pandemic.

3. NCUA Rules and Regulations, Real Estate Appraisal Relief.

4. NCUA Rules and Regulations, Real Estate Appraisal Threshold Levels.

CONTACT PERSON FOR MORE INFORMATION: Gerard Poliquin, Secretary of the Board, Telephone: 703-518-6304.

Gerard Poliquin,
Secretary of the Board.

[FR Doc. 2020-07871 Filed 4-9-20; 4:15 pm]

BILLING CODE 7535-01-P